DEPARTMENT OF LABOR

Employment and Training Administration

[TA-W-52,855]

ON Semiconductor, East Greenwich Division, Including Leased Workers of Kelly Services, East Greenwich, RI; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance on October 30, 2003, applicable to workers of ON Semiconductor, East Greenwich Division, including leased workers of Kelly Services, East Greenwich, Rhode Island. The notice was published in the Federal Register on November 28, 2003. (68 FR 66879).

At the request of a company official, the Department reviewed the certification for workers of the subject firm. The workers produce power management and standard analog semiconductor components.

The review shows that the company provided information in response to questions from the Department with respect to Alternative Trade Adjustment Assistance (ATAA) that were not addressed in the decision document. The Department has determined that this information together with semiconductor industry information warrants ATAA certification for workers of the subject firm.

Therefore, the Department is amending the certification to reflect its finding.

The amended notice applicable to TA-W-52,855 is hereby issued as follows:

All workers of ON Semiconductor, East Greenwich Division, including leased workers of Kelly Services, East Greenwich, Rhode Island, who became totally or partially separated from employment on or after September 3, 2002, through October 30, 2005, are eligible to apply for adjustment assistance under section 223 of the Trade Act of 1974, and are also eligible to apply for Alternative Trade Adjustment Assistance under section 246 of the Trade Act of 1974, as amended.

Signed in Washington, DC, this 17th day of February, 2004.
Linda G. Poole,
Certifying Officer, Division of Trade Adjustment Assistance.

[FR Doc. 04-4977 Filed 3-4-04; 8:45 am]

BILLING CODE 4510-30-P